DEPARTMENT OF ENERGY

Federal Energy Regulatory Commission

[Docket No. ER16-1649-000]

California Independent System Operator Corporation; Notice of Technical Conference

By order issued in this proceeding on June 1, 2016,¹ the Federal Energy Regulatory Commission (Commission) directed its staff to convene a technical conference. The conference will be held on September 30, 2016, at the Commission's offices at 888 First Street NE., Washington, DC 20426 beginning at 10:00 a.m. (Eastern Time). The conference will be led by Commission staff, and Commissioners may attend.

¹ Cal. Indep. Sys. Operator Corp., 155 FERC ¶ 61,224 (2016) (June 1 Order).

In the June 1 Order, the Commission accepted, subject to condition and further compliance, California Independent System Operator Corporation's proposal to implement an interim set of measures to address limitations in the natural gas delivery system due to the limited operability of the Aliso Canyon natural gas storage facility in southern California. The Commission directed its staff to convene a technical conference to facilitate discussion regarding the efficacy of these measures and the need for additional and/or longer-term measures to address any ongoing limitations at the Aliso Canyon facility.

Further details of the conference will be specified in a subsequent notice. All interested persons may attend the conference, and registration is not required. However, in-person attendees are encouraged to register on-line at https://www.ferc.gov/whats-new/registration/09-30-16-form.asp.

This conference will be transcribed and webcasted. Transcripts will be available immediately for a fee from Ace Reporting Company (202) 347-3700). A link to the webcast of this event will be available in the Commission Calendar of Events at www.ferc.gov. The Capitol Connection provides technical support for the webcasts and offers the option of listening to the conferences via phone-bridge for a fee. For additional information, visit www.CapitolConnection.org or call (703) 993-3100.

Commission conferences are accessible under section 508 of the Rehabilitation Act of 1973. For accessibility accommodations, please send an email to accessibility@ferc.gov, call (866) 208-3372 (toll free) or (202) 208-8659 (TTY), or send a fax to (202) 208-2106 with the required accommodations.

For more information about this technical conference, please contact Virginia Castro at (202) 502-8491, virginia.castro@ferc.gov, or Sarah McKinley at (202) 502-8368, sarah.mckinley@ferc.gov.

Dated: July 14, 2016.
Kimberly D. Bose,
Secretary.

[FR Doc. 2016-17124 Filed 7-19-16; 8:45 am]

BILLING CODE 6717-01-P